ENVIRONMENTAL PROTECTION AGENCY

[EPA-HQ-OPP-2010-0662; FRL-8885-2]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period July 1, 2010 to June 30, 2011 to control unforeseen pest outbreaks.

FOR FURTHER INFORMATION CONTACT: See each emergency exemption for the name of a contact person. The following information applies to all contact persons: Team Leader, Emergency Response Team, Registration Division (7505P), Office of Pesticide Programs, Environmental Protection Agency, 1200 Pennsylvania Ave., NW., Washington, DC 20460-0001; telephone number: (703) 306-0309.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the emergency exemption of interest.

B. How can I get copies of this document and other related information?

EPA has established a docket for this action under docket identification (ID) number EPA-HQ-OPP-2010-0662. Publicly available docket materials are available either electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, number of acres (if applicable), and the duration of the exemption. EPA also gives the Federal Register citation for the time-limited tolerance, if any.

III. Emergency Exemptions

A. U.S. States and Territories

Arkansas

State Plant Board

Specific Exemption: EPA authorized the use of hop beta acids in beehives to control varroa mite; March 8, 2011 to December 31, 2011. Since this request proposed the use of a new chemical, which has not been registered by EPA, a notice of receipt published in the Federal Register on November 17, 2010 (75 FR 70236) with the public comment period closing on December 2, 2010. This request was also granted to CA, CO, GA, HI, ID, IA, LA, MD, MN, MS, NE, ND, OR, TX, WA, WV, WY because the varroa mite is a highly destructive pest and is having a catastrophic effect on honey bee populations. The parasitic mite is considered the primary pest of honeybees and its control is necessary for successful beekeeping. Further, currently available registered products no longer successfully control varroa mites because repeated use has contributed to widespread development of mite resistance. Contact: Stacey Groce.

California

Environmental Protection Agency, Department of Pesticide Regulation

Quarantine Exemption: EPA authorized the use of chlorophene to disinfect hard surfaces which may be potentially contaminated with prions; May 2, 2011 to May 2, 2014.

Contact: Princess Campbell.

Specific Exemptions: EPA authorized the use of boscalid on Belgian endive to control sclerotinia (Sclerotinia sclerotiorum); October 14, 2010 to February 15, 2011. Contact: Stacey Groce.

EPA authorized the use of pyraclostrobin on Belgian endive to control sclerotinia (sclerotinia sclerotiorum); October 14, 2010 to February 15, 2011. Contact: Stacey Groce.

EPA authorized the use of mancozeb on walnut to control walnut blight; February 24, 2011 to June 15, 2011. Contact: Libby Pemberton.

EPA authorized the use of naphthaleneacetic acid-ester on avocado for sprout inhibition; April 15, 2011 to April 15, 2012. Contact: Keri Grinstead.

EPA authorized the use of propiconazole on peach and nectarine to control sour rot; May 16, 2011 to November 30, 2011. Contact: Andrea Conrath.

EPA authorized the use of hop beta acids in beehives to control varroa mite; June 7, 2011 to December 31, 2011. Contact: Stacey Groce.

Colorado

Department of Agriculture

Specific Exemptions: EPA authorized the use of fenpyroximate in beehives to control varroa mite; November 4, 2010 to September 30, 2011. Contact: Stacy Groce.

EPA authorized the use of hop beta acids in beehives to control varroa mite; March 8, 2011 to December 31, 2011. Contact: Stacey Groce.

EPA authorized the use of abamectin on dry bulb onion to control thrips; March 8, 2011 to September 30, 2011. Contact: Keri Grinstead.

EPA authorized the use of sprirotetramat on dry bulb onion to control thrips; March 8, 2011 to September 30, 2011. Contact: Keri Grinstead.

Delaware

Department of Agriculture

Specific Exemptions: EPA authorized the use of anthraquinone on corn field and sweet, seed to repel blackbird species and crow; April 20, 2011 to April 18, 2012. Contact: Marcel Howard.

EPA authorized the use of dinotefuran on stone and pome fruit to control brown marmorated stink bug; June 24, 2011 to October 15, 2011. Contact: Marcel Howard.

Florida

Department of Agriculture and Consumer Services

Crisis: On March 14, 2011 for the use of anthraquinone on rice, seed to repel blackbirds; this program is ongoing, and may continue for up to one year (to March 12, 2012) under a pending specific exemption request submitted by the state. Contact: Marcel Howard.

Specific Exemptions: EPA authorized the use of anthraquinone on corn, field and sweet, seed to repel blackbird species and grackle; March 14, 2011 to March 14, 2012. Contact: Marcel Howard.

Quarantine Exemption: EPA authorized the use of propiconazole on avocado to control Laurel Wilt; December 18, 2011 to December 18, 2013. Contact: Andrea Conrath.

Georgia

Department of Agriculture

Specific Exemption: EPA authorized the use of hop beta acids in beehives to control varroa mite; May 27, 2011 to December 31, 2011. Contact: Stacey Groce.

Hawaii

Department of Agriculture

Specific Exemptions: EPA authorized the use of fludioxonil on pineapple to control saprophytic mold; August 26, 2010 to August 26, 2011. Contact: Andrea Conrath.

EPA authorized the use of hop beta acids in beehives to control varroa mite; May 17, 2011 to December 31, 2011. Contact: Stacey Groce.

Idaho

Department of Agriculture

Specific Exemptions: EPA authorized the use of hop beta acids in beehives to control varroa mite; February 7, 2011 to December 31, 2011. Contact: Stacey Groce.

EPA authorized the use of linuron on lentil to control dog fennel, prickly lettuce; March 8, 2011 to June 20, 2011. Contact: Andrea Conrath.

EPA authorized the use of spirotetramat on onion, dry bulb to control thrips; March 8, 2011 to September 15, 2011. Contact: Keri Grinstead.

EPA authorized the use of abamectin on onion, dry bulb to control thrips; June 24, 2011 to September 15, 2011. Contact: Keri Grinstead.

Illinois

Department of Agriculture

Specific Exemptions: EPA authorized the use of fenpyroximate in beehives to control varroa mite; September 30, 2010 to September 30, 2011. Contact: Stacey Groce.

EPA authorized the use of cyazofamid on basil to control downy mildew; May 5, 2011 to October 15, 2011. Contact: Marcel Howard.

Iowa

Department of Agriculture and Land Stewardship

Specific Exemptions: EPA authorized the use of hop beta acids in beehives to control varroa mite; May 17, 2011 to December 31, 2011. Contact: Stacey Groce.

Kentucky

Department of Agriculture

Specific Exemptions: EPA authorized the use of fenpyroximate in beehives to control varroa mite; September 24, 2010 to September 30, 2011. Contact: Stacey Groce.

Louisiana

Department of Agriculture and Forestry

Crisis: On July 7, 2010 for the use of bifenthrin on sugarcane to control spider mites; this program ended on July 22, 2010. Contact: Andrea Conrath.

Specific Exemptions: EPA authorized the use of anthraquinone on corn, sweet and field, seed to repel blackbird species and crow; February 24, 2011 to February 23, 2012. Contact: Marcel Howard.

EPA authorized the use of hop beta acids in beehives to control varroa mites; March 11, 2011 to December 31, 2011. Contact: Stacey Groce.

EPA authorized the use of anthraquinone on rice, seed to repel blackbirds; April 21, 2011 to April 18, 2012. Contact: Marcel Howard.

Maryland

Department of Agriculture

Specific Exemptions: EPA authorized the use of hop beta acids in beehives to control varroa mites; June 13, 2011 to December 31, 2011. Contact: Stacey Groce.

EPA authorized the use of dinotefuran on stone and pome fruit to control brown marmorated stink bug; June 24, 2011 to October 15, 2011. Contact: Marcel Howard.

Massachusetts

Department of Food and Agriculture

Specific Exemption: EPA authorized the use of quinclorac on cranberry to control dodder; March 11, 2011 to July 31, 2011. Contact: Marcel Howard.

Michigan

Department of Agriculture

Specific Exemptions: EPA authorized the use of anthraquinone on corn, field and sweet, seed, to repel sandhill crane; February 25, 2011 to January 21, 2012. Contact: Marcel Howard.

EPA authorized the use of spirotetramat on onion, dry bulb to control thrips; March 8, 2011 to September 30, 2011. Contact: Keri Grinstead.

EPA authorized the use of kasugamycin on apple to control fire blight; April 6, 2011 to April 1, 2012. Since the applicant proposed the use of a new chemical which has not been registered by the EPA, a Notice of Receipt was published in the Federal Register on March 2, 2011 (76 FR 11454). The rationale for emergency approval of this use is that kasugamycin is needed to control streptomycin-resistant strains of Erwinia amylovora, the causal pathogen of fire blight, due to the lack of available alternatives and effective control practices. Without the use of kasugamycin and if weather conditions are present which favor a fire blight disease epidemic, it is likely that Michigan apple growers could suffer 50% yield losses. Contact: Keri Grinstead.

EPA authorized the use of abamectin on onion, dry bulb to control thrips; April 15, 2011 to March 31, 2012. Contact: Keri Grinstead.

Minnesota

Department of Agriculture

Specific Exemptions: EPA authorized the use of abamectin on onion, dry bulb to control thrips; July 12, 2010 to September 15, 2010. Contact: Keri Grinstead.

EPA authorized the use of sprirotetramat on onion, dry bulb, to control thrips; July 12, 2010 to September 15, 2010. Since this request proposed the use of a chemical whose registration had been canceled, a Notice of Receipt was published in the Federal Register on July 30, 2010 (75 FR 44946). The rationale for emergency approval of this use is that onion thrips are sucking insects which both directly damage the crop and also vector the plant disease Iris Yellow Spot Virus. The use of spirotetramat is necessary to ensure thrips control in areas experiencing thrips resistance to available alternatives and, in particular, where 6-8 seasonal applications of alternative pesticides are required to achieve adequate control. Contact: Keri Grinstead.

EPA authorized the use of anthraquinone on corn, field and sweet, seed, to repel sandhill crane; February 18, 2011 to February 26, 2012. Contact: Marcel Howard.

EPA authorized the use of hop beta acids in beehives to control varroa mite; March 8, 2011 to December 31, 2011. Contact: Stacey Groce.

EPA authorized the use of spirotetramat on onion, dry bulb to control thrips; March 21, 2011 to September 15, 2011. Contact: Keri Grinstead.

Mississippi

Department of Agriculture and Commerce

Specific Exemptions: EPA authorized the use of fenpyroximate in beehives to control varroa mite; October 15, 2010 to September 30, 2011. Contact: Stacey Groce.

EPA authorized the use of hop beta acids in beehives to control varroa mite; March 8, 2011 to December 31, 2011. Contact: Stacey Groce.

Missouri

Department of Agriculture

Specific Exemption: EPA authorized the use of fenpyroximate in beehives to control varroa mite; September 30, 2010 to September 30, 2011. Contact: Stacey Groce.

Nebraska

Department of Agriculture

Specific Exemption: EPA authorized the use of hop beta acids in beehives to control varroa mite; April 7, 2011 to December 31, 2011. Contact: Stacey Groce.

Nevada

Division of Agriculture, Department of Business and Industry

Specific Exemption: EPA authorized the use of sprirotetramat on onion, dry bulb to control thrips; March 21, 2011 to September 30, 2011. Contact: Keri Grinstead.

EPA authorized the use of bifenazate on timothy for control of Banks grass mite; May 17, 2011 to September 1, 2011. Contact: Andrea Conrath.

New Jersey

Department of Environmental Protection

Specific Exemption: EPA authorized the use of dinotefuran on stone and pome fruit to control brown marmorated stink bug; June 24, 2011 to October 15, 2011. Contact: Marcel Howard.

New York

Department of Environmental Conservation

Specific Exemptions: EPA authorized the use of abamectin on onion, dry bulb to control thrips; February 4, 2011 to September 15, 2011. Contact: Keri Grinstead.

EPA authorized the use of spirotetramat on onion, dry bulb to control thrips; February 4, 2011 to September 15, 2011. Contact: Keri Grinstead.

North Carolina

Department of Agriculture and Consumer Services

Specific Exemption: EPA authorized the use of dinotefuran on stone and pome fruit to control brown marmorated stink bug; June 24, 2010 to October 15, 2011. Contact: Marcel Howard.

North Dakota

Department of Agriculture

Specific Exemption: EPA authorized the use of hop beta acids in beehives to control varroa mite; April 7, 2011 to December 31, 2011. Contact: Stacey Groce.

Oregon

Department of Agriculture

Specific Exemption: EPA authorized the use of fenoxaprop-p-ethyl on grasses grown for seed to control annual grass weeds; February 4, 2011 to September 15, 2011. Contact: Andrea Conrath.

EPA authorized the use of hop beta acids in beehives to control varroa mite; February 7, 2011 to December 31, 2011. Contact: Stacey Groce.

EPA authorized the use of spirotetramat on onion, dry bulb to control thrips; March 21, 2011 to September 15, 2011. Contact: Keri Grinstead.

EPA authorized the use of bifenthrin on orchardgrass to control orchardgrass billbug; April 6, 2011 to November 15, 2011. Contact: Andrea Conrath.

EPA authorized the use of abamectin on onion, dry bulb to control thrips; June 24, 2011 to September 15, 2011. Contact: Keri Grinstead.

EPA authorized the use of fipronil on turnip and rutabaga to control cabbage maggot. Since this request proposed a use which is IR4-supported, has been requested in 5 or more previous years, and a petition for tolerance has not been submitted to the Agency, a Notice of Receipt was published in the Federal Register on April 6, 2011 (76 FR 19093). The rationale for emergency approval of this use is that no pesticides or practices are currently available for use in turnip and rutabaga, to provide adequate control of cabbage maggots. If not controlled, this insect pest is expected to cause significant yield and economic losses due to their damaging effects from feeding on the turnip and rutabaga roots. June 24, 2011 to September 30, 2011. Contact: Andrea Conrath.

Pennsylvania

Department of Agriculture

Specific Exemption: EPA authorized the use of dinotefuran on stone and pome fruit to control brown marmorated stink bug; June 24, 2011 to October 15, 2011. Contact: Marcel Howard.

South Dakota

Department of Agriculture

Specific Exemptions: EPA authorized the use of anthraquinone on corn, field and sweet, seed, to repel ring-necked pheasant; March 8, 2011 to March 3, 2012. Contact: Marcel Howard.

EPA authorized the use of anthraquinone on sunflower, seed to repel ring-necked pheasant; March 11, 2011 to March 2, 2012. Contact: Marcel Howard.

Texas

Department of Agriculture

Quarantine Exemption: EPA authorized the use of potassium chloride in creeks to control zebra mussels; August 24, 2010 to March 24, 2011. Contact: Marcel Howard.

Specific Exemptions: EPA authorized the use of spirotetramat on onion, dry bulb to control thrips; January 19, 2011 to July 30, 2011. Contact: Keri Grinstead.

EPA authorized the use of anthraquinone on corn, field and sweet, seed, to repel sandhill crane; February 18, 2011 to March 8, 2012. Contact: Marcel Howard.

EPA authorized the use of dinotefuran on rice to control rice stink bug (Oebalus pugnax); April 5, 2011, to October 30, 2011. Since this request proposed a use which has been requested in 3 or more previous years, and a petition for tolerance has not yet been submitted to the Agency a notice of receipt published in the Federal Register on March 2, 2011 (76 FR 11453) with the public comment period closing on March 17, 2011. This request was granted because the Applicant demonstrated that rice stink bug resistance is occurring in several areas. In addition, the current weather conditions are contributing to urgent and non-routine pest problems. Rice growers would likely incur a significant economic loss without use of dinotefuran. Contact: Libby Pemberton.

EPA authorized the use of fenpyroximate in beehives to control varroa mite; April 8, 2011 to September 30, 2011. Contact: Stacey Groce.

EPA authorized the use of hop beta acids in beehives to control varroa mite; April 15, 2011 to December 31, 2011. Contact: Stacey Groce.

Utah

Department of Agriculture and Food

Specific Exemptions: EPA authorized the use of spirotetramat on onion, dry bulb to control thrips; March 21, 2011 to September 1, 2011. Contact: Keri Grinstead.

EPA authorized the use of anthraquinone on corn, field and sweet, seed, to repel sandhill crane and pheasant; April 5, 2011 to April 5, 2012. Contact: Marcel Howard.

Vermont

Department of Agriculture, Food, and Markets

Specific Exemption: EPA authorized the use of anthraquinone on corn, field and sweet, seed, to repel blackbird species and crow; April 15, 2011 to April 14, 2012. Contact: Marcel Howard.

Virginia

Department of Agriculture and Consumer Services

Specific Exemption: EPA authorized the use of dinotefuran on stone and pome fruit to control brown marmorated stink bug; June 24, 2011 to October 15, 2011. Contact: Marcel Howard.

Washington

Department of Agriculture

Specific Exemptions: EPA authorized the use of lambda-cyhalothrin on asparagus to control aphids; August 31, 2010 to September 30, 2010. Contact: Libby Pemberton.

EPA authorized the use of hop beta acids in beehives to control varroa mites; February 7, 2011 to December 31, 2011. Contact: Stacey Groce.

EPA authorized the use of linuron on lentil to control dog fennel, prickly lettuce; March 8, 2011 to June 20, 2011. Contact: Andrea Conrath.

EPA authorized the use of spirotetramat on onion, dry bulb to control thrips; March 21, 2011 to October 31, 2011. Contact: Keri Grinstead.

EPA authorized the use of abamectin on onion, dry bulb to control thrips; June 21, 2011 to September 15, 2011. Contact: Keri Grinstead.

West Virginia

Department of Agriculture

Specific Exemptions: EPA authorized the use of hop beta acids in beehives to control varroa mite; April 7, 2011 to December 31, 2011. Contact: Stacey Groce.

EPA authorized the use of dinotefuran on stone and pome fruit to control brown marmorated stink bug; June 24, 2011 to October 15, 2011. Contact: Marcel Howard.

Wisconsin

Department of Agriculture, Trade, and Consumer Protection

Crisis: On August 16, 2010 for the use of pyrethrin on aquatic sites to control red swamp crayfish; this program ended on August 31, 2010. Contact: Stacey Groce.

Specific Exemptions: EPA authorized the use of chlorpyrifos on ginseng to control soil larvae (rootworms, wireworms, grubs, cutworms); August 9, 2010 to November 15, 2010. Contact: Stacey Groce.

EPA authorized the use of anthraquinone on corn, field and sweet, seed, to repel sandhill crane; March 31, 2011 to March 23, 2012. Contact: Marcel Howard.

EPA authorized the use of abamectin on onion, dry bulb to control thrips; May 16, 2011 to September 15, 2011. Contact: Keri Grinstead.

EPA authorized the use of spirotetramat on onion, dry bulb to control thrips; May 16, 2011 to September 15, 2011. Contact: Keri Grinstead.

Wyoming

Department of Agriculture

Specific Exemption: EPA authorized the use of hop beta acids in beehives to control varroa mites; April 7, 2011 to December 31, 2011. Contact: Stacey Groce.

EPA authorized the use of diflubenzuron in alfalfa for control of various grasshopper and cricket species. Since this request proposed a use which is IR4-supported, has been requested in 5 or more previous years, and a petition for tolerance has not been submitted to the Agency, a Notice of Receipt was published in the Federal Register on April 6, 2011 (76 FR 19092). The rationale for emergency approval of this use is that higher than normal populations of these insect pests were anticipated based upon early surveys, and available control practices and pesticides would not provide adequate control under the extreme outbreak conditions. Additionally, other pesticides available posed higher risk to beneficial and pollinator insects. Adequate control of the outbreak was needed to avert significant economic losses from the damaging feeding activities of these species. May 26, 2011 to October 31, 2011. Contact: Andrea Conrath.

B. Federal Departments and Agencies

Agriculture Department

Quarantine: EPA authorized the use of paraformaldehyde on containment areas and equipment to control infectious agents; September 7, 2010 to August 31, 2013. Contact: Princess Campbell.

EPA authorized the use of Bacillus thuringiensis on cotton to control pink bollworm; May 2, 2011 to May 2, 2014. Contact: Andrea Conrath.

EPA authorized the use of diazinon to treat soil under host plants to eradicate non-indigenous exotic fruit fly pests of the family Tephritidae; June 13, 2011 to June 13, 2014. Contact: Stacey Groce.

Interior Department

Bureau of Reclamation

Quarantine: EPA authorized the use of Pseudomonas fluorescens in three lower Colorado river dams and their associated power generation facilities and piped-irrigation water distribution systems to control invasive zebra mussels (Dreissena polymorpha) and quagga mussels (Dreissena bugenis); August 26, 2010 to August 26, 2013. Since the applicant proposed the use of a new chemical which has not been registered by the EPA, a Notice of Receipt was published in the Federal Register on November 12, 2009 (74 FR 58287). The rationale for emergency approval of this use is to limit the distribution of these invasive species infestations which are causing physical obstruction of flow in water conveyance systems reducing delivery capacities, pumping capabilities, and hydropower generation functions. Contact: Keri Grinstead.

National Aeronautics and Space Administration

Specific Exemption: EPA authorized the use of ortho-phthalaldehyde in the International Space Station to control microbacteria; April 15, 2011 to April 15, 2012. Contact: Debra Rate.

List of Subjects

Environmental protection, Pesticides and pests.

Dated: August 15, 2011.
Lois Rossi,
Director, Registration Division, Office of Pesticide Programs.

[FR Doc. 2011-21374 Filed 8-23-11; 8:45 am]

BILLING CODE 6560-50-P